FEDERAL MINE SAFETY AND HEALTH REVIEW COMMISSION

Notice of Sunshine Act Meeting

October 5, 2012.

TIME AND DATE: 11:00 a.m., Wednesday, October 17, 2012.

PLACE: The Richard V. Backley Hearing Room, Room 511N, 1331 Pennsylvania Avenue NW., Washington, DC 20004 (entry from F Street entrance).

STATUS: Open.

MATTERS TO BE CONSIDERED: The Commission will consider and act upon the following in open session: Secretary of Labor v. Black Castle Mining Co., Docket Nos. WEVA 2006-891-R et al.; and Secretary of Labor v. Michael Vira, employed by Black Castle Mining Co., Docket No. WEVA 2007-421. (Issues include whether the Administrative Law Judge erred in concluding that pre-shift and on-shift examinations conducted by the operator were adequate.)

Any person attending this meeting who requires special accessibility features and/or auxiliary aids, such as sign language interpreters, must inform the Commission in advance of those needs. Subject to 29 CFR 2706.150(a)(3) and § 2706.160(d).

CONTACT PERSON FOR MORE INFO: Jean Ellen (202) 434-9950/(202) 708-9300 for TDD Relay/1-800-877-8339 for toll free.

Emogene Johnson,
Administrative Assistant.

[FR Doc. 2012-25233 Filed 10-10-12; 11:15 am]

BILLING CODE 6735-01-P